DEPARTMENT OF ENERGY

Advanced Technology Vehicles Manufacturing Loan Program (ATVMLP)

AGENCY: U.S. Department of Energy.

ACTION: Notice of public meetings.

SUMMARY: The U.S. Department of Energy (DOE) is in the process of accepting applications for loans for its Advanced Technology Vehicles Manufacturing Incentive Program; therefore, the agency will be hosting two public meetings for the purpose of addressing inquiries from potential loan applicants regarding the ATVMLP's Interim Final Rule as published in the Federal Register, 73 FR 66721, on November 12, 2008. Details of the ATVMLP can be found at http://www.atvmloan.energy.gov/. The first tranche of loan applications are due to the agency on or before December 31, 2008. Thereafter, applications will be due at the end of each calendar quarter. Meeting highlights and frequently asked questions will be posted to the ATVMLP Web site following each meeting.

DATES: The meetings will be held on Monday, December 1, 2008 and again on Friday, December 5, 2008 from 10 a.m. to 12 noon each day.

ADDRESSES: The meetings will be held at the DOE's Forrestal Building, 1000 Independence Avenue, SW., Washington, DC, Room 4A-104.

SUPPLEMENTARY INFORMATION: The meetings are open to the public on a first-come, first-served basis. As space is limited, only two individuals per corporation are asked to attend. Reservations are required to attend either meeting; please send an e-mail to atvmloan@hq.doe.gov, or call 202-586-3811 to reserve your spot no later than close of business on Wednesday, November 26, 2008 (for the December 1 date) and Wednesday, December 3, 2008 (for the December 5 date). Each attendee will need to provide full contact information including name, company affiliation, telephone number, e-mail address, and whether a U.S. citizen. Should requests significantly exceed the limits for each meeting, DOE will consider conducting additional sessions.

FOR FURTHER INFORMATION CONTACT: Ellen B. Clark, U.S. Department of Energy, Advanced Technology Vehicles Manufacturing Loan Program, 4A-157, 1000 Independence Avenue, SW., Washington, DC, (Telephone) 202-586-3811.

Authority: Section 136 of the Energy Independence and Security Act of 2007, as amended.

Dated: November 17, 2008.
Lachlan W. Seward,
Director, Advanced Technology Vehicle Manufacturing Loan Program.

[FR Doc. E8-27718 Filed 11-20-08; 8:45 am]

BILLING CODE 6450-01-P